DEPARTMENT OF LABOR

Employment and Training Administration

[TA-W-41,917, TA-W-41,917A, and TA-W-41,917B]

Pfaltzgraff Company, Also Known as Susquehanna Pfaltzgraff, York, PA, Thomasville, PA, and Dover, PA; Amended Certification Regarding Eligibility To Apply for Worker Adjustment Assistance

In accordance with section 223 of the Trade Act of 1974 (19 U.S.C. 2273) the Department of Labor issued a Certification of Eligibility to Apply for Worker Adjustment Assistance on September 30, 2002, applicable to workers of Pfaltzgraff Company, also known as Susquehanna Pfaltzgraff, located in York, Pennsylvania. The notice was published in the Federal Register on October 22, 2002 (67 FR 64923).

At the request of a company official, the Department reviewed the certification for workers of the subject firm. The workers produce dinnerware. The company official reports that worker separations have occurred at the company's dinnerware production plants in Thomasville and Dover, Pennsylvania.

Since corporate-wide sales have declined and company imports have increased, the Department is amending the certification to include workers at the plants in Thomasville and Dover, Pennsylvania.

The amended notice applicable to TA-W-41,917 is hereby issued as follows:

“All workers of Pfaltzgraff Company, also known as Susquehanna Pfaltzgraff, York, Pennsylvania (TA-W-41,917), Thomasville, Pennsylvania (TA-W-41,917A), and Dover, Pennsylvania (TA-W-41,917B), who became totally or partially separated from employment on or after July 12, 2001, through September 30, 2004, are eligible to apply for adjustment assistance under Section 223 of the Trade Act of 1974.”

Signed at Washington, DC, this 3rd day of December, 2002.
Linda G. Poole,
Certifying Officer, Division of Trade Adjustment Assistance.

[FR Doc. 02-32589 Filed 12-24-02; 8:45 am]

BILLING CODE 4510-30-P